DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on January 10, 2025. See SUPPLEMENTARY INFORMATION for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On January 10, 2025, OFAC determined that the property and interests in property subject to U.S. jurisdiction of the following persons are blocked under the relevant sanctions authorities listed below.

Individuals

1. VELASQUEZ ARAGUAYAN, Ramon Celestino, Venezuela; DOB 31 Aug 1971; POB Guanaguana, Venezuela; nationality Venezuela; Gender Male; Cedula No. V-11448109 (Venezuela) (individual) [VENEZUELA].

Designated pursuant to section 1(a)(ii)(C) of Executive Order 13692 of March 8, 2015, “Blocking Property and Suspending Entry of Certain Persons Contributing to the Situation in Venezuela,” 80 FR 12747, 3 CFR, 2015 Comp., p. 276 (March 11, 2015) (E.O. 13692), as amended by Executive Order 13857 of January 25, 2019, “Taking Additional Steps To Address the National Emergency With Respect to Venezuela,” 84 FR 509, 3 CFR, 2019 Comp., p. 251 (January 30, 2019) (E.O. 13857), for being a current or former official of the Government of Venezuela.

2. OSORIO GUZMAN, Felix Ramon, Venezuela; DOB 05 Oct 1969; POB Maracay, Venezuela; nationality Venezuela; Gender Male; Cedula No. V-9657088 (Venezuela) (individual) [VENEZUELA].

Designated pursuant to section 1(a)(ii)(C) of E.O. 13692, as amended by E.O. 13857, for being a current or former official of the Government of Venezuela.

3. FERRER SANDREA, Danny Ramon (a.k.a. SANDREA FERRER, Danny Ramon), Venezuela; DOB 23 Sep 1969; POB Caracas, Venezuela; nationality Venezuela; Gender Male; Cedula No. V-10509178 (individual) [VENEZUELA].

Designated pursuant to section 1(a)(ii)(C) of E.O. 13692, as amended by E.O. 13857, for being a current or former official of the Government of Venezuela.

4. OBREGON PEREZ, Hector Andres, Venezuela; DOB 29 Aug 1983; POB Venezuela; nationality Venezuela; Gender Male; Cedula No. V-17123100 (Venezuela) (individual) [VENEZUELA].

Designated pursuant to section 1(a)(ii)(C) of E.O. 13692, as amended by E.O. 13857, for being a current or former official of the Government of Venezuela.

5. RICO GONZALEZ, Douglas Arnoldo, Caracas, Venezuela; DOB 15 Jul 1965; alt. DOB 28 Sep 1969; POB Caracas, Venezuela; nationality Venezuela; Gender Male; Cedula No. V-6864238 (Venezuela) (individual) [VENEZUELA].

Designated pursuant to section 1(a)(ii)(C) of E.O. 13692, as amended by E.O. 13857, for being a current or former official of the Government of Venezuela.

6. SALAZAR BELLO, Jhonny Rafael, Caracas, Venezuela; DOB 13 Nov 1970; POB Carupano, Venezuela; nationality Venezuela; Gender Male; Cedula No. V-10882214 (Venezuela); Passport 077530031 (Venezuela) expires 19 Sep 2018 (individual) [VENEZUELA].

Designated pursuant to section 1(a)(ii)(C) of E.O. 13692, as amended by E.O. 13857, for being a current or former official of the Government of Venezuela.

7. CASTILLO RENGIFO, Manuel Enrique, Venezuela; DOB 24 Nov 1969; POB Bolivar, Venezuela; nationality Venezuela; Gender Male; Cedula No. V-10049604 (Venezuela) (individual) [VENEZUELA].

Designated pursuant to section 1(a)(ii)(C) of E.O. 13692, as amended by E.O. 13857, for being a current or former official of the Government of Venezuela.

8. FIGUERA VALDEZ, Jose Ramon, Caracas, Venezuela; DOB 13 Oct 1974; POB Maturin, Venezuela; nationality Venezuela; Gender Male; Cedula No. V-11344561 (Venezuela) (individual) [VENEZUELA].

Designated pursuant to section 1(a)(ii)(C) of E.O. 13692, as amended by E.O. 13857, for being a current or former official of the Government of Venezuela.

Lisa M. Palluconi,
Acting Director, Office of Foreign Assets Control.

[FR Doc. 2025-00762 Filed 1-14-25; 8:45 am]

BILLING CODE 4810-AL-P